DEPARTMENT OF ENERGY

Industrial Technology Innovation Advisory Committee

AGENCY: Office of Energy Efficiency and Renewable Energy, Department of Energy.

ACTION: Notice of establishment.

SUMMARY: The U.S. Department of Energy (DOE or the Department) announces the establishment of the Industrial Technology Innovation Advisory Committee (Committee), pursuant to the Energy Independence and Security Act of 2007 (EISA) and in accordance with the Federal Advisory Committee Act (FACA) and the rules and regulations in implementation of that Act.

SUPPLEMENTARY INFORMATION: The Committee is established to advise the Secretary of Energy (Secretary) with respect to the Industrial Emissions Reductions Technology Development Program (the program) by identifying and evaluating any technologies being developed by the private sector relating to the focus areas described in of the EISA; identifying technology gaps in the private sector or other Federal agencies in those focus areas, and making recommendations on how to address those gaps; surveying and analyzing factors that prevent the adoption of emissions reduction technologies by the private sector; and recommending technology screening criteria for technology developed under the program to encourage adoption of the technology by the private sector. The Committee shall also develop a strategic plan on how to achieve the program's goals and, in consultation with the Secretary and the Director of the Office of Science and Policy, propose missions and goals for the program consistent with the purposes of the program described in of the EISA.

FOR FURTHER INFORMATION CONTACT: Antonio M. Bouza, Designated Federal Officer, Office of Energy Efficiency and Renewable Energy, U.S. Department of Energy, 1000 Independence Avenue SW, Washington, DC 20585; telephone at (202) 586-4563, or email: ITIAC@ee.doe.gov.

Signing Authority

This document of the Department of Energy was signed on April 20, 2022, by Miles Fernandez, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 21, 2022.
Treena V. Garrett,
Federal Register Liaison Officer, U.S. Department of Energy.

[FR Doc. 2022-08834 Filed 4-25-22; 8:45 am]

BILLING CODE 6450-01-P